NATIONAL ARCHIVES AND RECORDS ADMINISTRATION

[NARA-2021-042]

Freedom of Information Act (FOIA) Advisory Committee Meeting

AGENCY: Office of Government Information Services (OGIS), National Archives and Records Administration (NARA).

ACTION: Notice of Federal advisory committee meeting.

SUMMARY: We are announcing an upcoming Freedom of Information Act (FOIA) Advisory Committee meeting in accordance with the Federal Advisory Committee Act and the second United States Open Government National Action Plan.

DATES: The meeting will be on September 9, 2021, from 10:00 a.m. to 1:00 p.m. ET. You must register by 11:59 p.m. ET September 7, 2021, to attend the meeting.

ADDRESSES: This meeting will be a virtual meeting. We will send access instructions to those who register according to the instructions below.

FOR FURTHER INFORMATION CONTACT: Kirsten Mitchell, Designated Federal Officer for this committee, by email at foia-advisory-committee@nara.gov, or by telephone at 202.741.5770.

SUPPLEMENTARY INFORMATION:

Agenda and meeting materials: We will post all meeting materials at https://www.archives.gov/ogis/foia-advisory-committee/2020-2022-term. This will be the fifth meeting of the 2020-2022 committee term. The purpose of this meeting will be to hear a presentation about the application of information access to non-governmental entities performing government functions, and updates from the four Subcommittees: Classification, Legislation, Process, and Technology.

Procedures: This virtual meeting is open to the public in accordance with the Federal Advisory Committee Act (5 U.S.C. app. 2). You must register in advance through this Eventbrite link https://foiaac-mtg-sep-9-2021.eventbrite.com if you wish to attend. Registration opens August 16, 2021. You must provide an email address so that we can provide you with information to access the meeting online. To request additional accommodations (e.g., a transcript), email foia-advisory-committee@nara.gov or call 202.741.5770. Members of the media who wish to register, those who are unable to register online, and those who require special accommodations, should contact Kirsten Mitchell (contact information listed above).

Tasha Ford,
Committee Management Officer.

[FR Doc. 2021-18430 Filed 8-26-21; 8:45 am]

BILLING CODE 7515-01-P